DEPARTMENT OF AGRICULTURE

Animal and Plant Health Inspection Service

[Docket No. APHIS-2006-0007]

Draft Exotic Fruit Fly Strategic Plan, Fiscal Years 2006-2010

AGENCY: Animal and Plant Health Inspection Service, USDA.

ACTION: Notice of availability and request for comments.

SUMMARY: We are advising the public that the Animal and Plant Health Inspection Service has prepared a draft Exotic Fruit Fly Strategic Plan for fiscal years 2006 through 2010. We are making this draft strategic plan available to the public for review and comment.

DATES: We will consider all comments that we receive on or before March 20, 2006.

ADDRESSES: You may submit comments by either of the following methods:

• Federal eRulemaking Portal: Go to http://www.regulations.gov and, in the “Search for Open Regulations” box, select “Animal and Plant Health Inspection Service” from the agency drop-down menu, then click on “Submit.” In the Docket ID column, select APHIS-2006-0007 to submit or view public comments and to view supporting and related materials available electronically. After the close of the comment period, the docket can be viewed using the “Advanced Search” function in Regulations.gov.

• Postal Mail/Commercial Delivery: Please send four copies of your comment (an original and three copies) to Docket No. APHIS-2006-0007, Regulatory Analysis and Development, PPD, APHIS, Station 3A-03.8, 4700 River Road Unit 118, Riverdale, MD 20737-1238. Please state that your comment refers to Docket No. APHIS-2006-0007.

Reading Room: You may read any comments that we receive on the draft strategic plan in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Mr. Mike Stefan, Director, Fruit Fly Exclusion and Detection Programs, PPQ, APHIS, 4700 River Road Unit 137, Riverdale, MD 20737-1229; (301) 734-4387.

SUPPLEMENTARY INFORMATION:

Background

Exotic fruit flies of the family Tephritidae are among the most destructive pests of fruits and vegetables around the world and pose a significant risk to agriculture in the United States. Introduction of these pests species into the United States causes economic losses from destruction and spoiling of host commodities by larvae, costs associated with implementing control measures, and loss of markets due to restrictions on the movement of host commodities.

The Animal and Plant Health Inspection Service (APHIS) responds to exotic fruit fly risks with an integrated system that incorporates surveillance activities, fruit fly control programs, and regulatory actions. To outline how APHIS, along with its domestic and global partners, will harmonize these exotic fruit fly safeguarding programs and activities over the next 5 years, we have prepared a draft document entitled “Exotic Fruit Fly Strategic Plan FY 2006-2010.” This draft strategic plan focuses on the activities funded through APHIS' Fruit Fly Exclusion and Detection programs, whose primary mission is to protect the health and value of American agriculture resources threatened by the establishment of exotic fruit fly pests.

We are making the draft document available to the public for review and comment. We will consider all comments that we receive on or before the date listed under the heading DATES at the beginning of this notice.

You may view the draft document on the Internet at http://www.aphis.usda.gov/ppq/ep/ff/. The document may also be viewed on the Regulations.gov Web site (see ADDRESSES above for instructions for accessing Regulations.gov), or you may request copies from the person listed under FOR FURTHER INFORMATION CONTACT. Please refer to the title of the draft document when requesting copies. Finally, the draft document is available for review in our reading room (information on the location and hours of the reading room is provided under the heading ADDRESSES at the beginning of this notice).

Done in Washington, DC, this 14th day of February 2006.
Kevin Shea,
Acting Administrator, Animal and Plant Health Inspection Service.

[FR Doc. E6-2307 Filed 2-16-06; 8:45 am]

BILLING CODE 3410-34-P